DEPARTMENT OF ENERGY

Federal Energy Regulatory Commission

Notice of Schedule for Environmental Review of the Leach Xpress and Rayne Xpress Expansion Projects

| Docket No.
Columbia Gas Transmission, LLC | CP15-514-000
Columbia Gulf Transmission, LLC | CP15-539-000

On June 8, 2015, Columbia Gas Transmission, LLC (Columbia Gas) filed an application in Docket No. CP15-514-000 requesting a Certificate of Public Convenience and Necessity pursuant to Section 7(c) and 7(b) of the Natural Gas Act to construct, operate, abandon in-place, and maintain certain natural gas pipeline facilities. The proposed Leach XPress Project, located in West Virginia, Ohio, and Pennsylvania, would provide about 1.5 million dekatherms of natural gas per day of firm transportation service to natural gas consumers served by the Columbia Gas pipeline systems.

Additionally, on July 29, 2015, Columbia Gulf Transmission, LLC (Columbia Gulf) filed an application in Docket No. CP15-539-000 requesting a Certificate of Public Convenience and Necessity pursuant to Section 7(c) of the Natural Gas Act to construct, own, and operate the proposed Rayne XPress Expansion Project. The Rayne Express Expansion Project, located in Kentucky, would add new compression and provide about 621,000 dekatherms per day of firm transportation on Columbia Gulf's system. Together, these proposals are referred to in this notice as “the Projects.”

On June 22 and August 11, 2015, respectively, the Federal Energy Regulatory Commission (FERC or Commission) issued its Notice of Application for the Leach XPress Project and Rayne XPress Expansion Project. Among other things, these notices alerted other agencies issuing federal authorizations of the requirement to complete all necessary reviews and to reach a final decision on the request for a federal authorization within 90 days of the date of issuance of the Commission staff's final Environmental Impact Statement (EIS) for the Projects. This instant notice identifies the FERC staff's planned schedule for completion of the final EIS for the Projects.

Schedule for Environmental Review
Issuance of Notice of Availability of the final EIS | September 1, 2016.
90-day Federal Authorization Decision Deadline | November 30, 2016.

If a schedule change becomes necessary, an additional notice will be provided so that the relevant agencies are kept informed of the Project's progress.

Project Description

Columbia Gas plans to construct approximately 160 miles of new natural gas pipeline in West Virginia (Marshall County), Ohio (Fairfield, Hocking, Monroe, Morgan, Muskingum, Noble, Perry and Vinton Counties) and Pennsylvania (Greene County), two new compressor stations in Ohio (Noble and Jackson Counties), one new compressor station in West Virginia (Marshall County), and modify two existing compressor stations in West Virginia and Ohio.

Columbia Gulf plans to construct and operate 51,800 horsepower of new compression in two new compressor stations located in Carter, Menifee and Montgomery Counties, Kentucky, and modify the existing Means Measurement and Regulation Station in Means and Montgomery County, Kentucky.

Background

On October 9, 2014, the Commission staff granted Columbia Gas's request to use the FERC's Pre-filing environmental review process and assigned the Leach XPress Project Docket No. PF14-23-000. On January 13, 2015, the Commission issued a Notice of Intent to Prepare an Environmental Impact Statement for the Planned Leach XPress Project, Request for Comments on Environmental Issues, and Notice of Public Scoping Meetings (NOI). Additionally, on September 4, 2015, the Commission issued a Notice of Intent to Prepare an Environmental Impact Statement for the Rayne XPress Expansion Project and Request for Comments on Environmental Issues.

Both NOIs were sent to federal, state, and local government agencies; elected officials; affected landowners; environmental and public interest groups; Native American tribes and regional organizations; commentors and other interested parties; and local libraries and newspapers. The primary issues raised by the commentors included federally listed bats, forested plant and animal habitat, freshwater mussel habitat, salamander habitat, potential future subsidence of mining land, and effects on public health and safety.

The U.S. Environmental Protection Agency, U.S. Army Corps of Engineers, U.S. Fish and Wildlife Service, Ohio Environmental Protection Agency, the West Virginia Department of Environmental Protection, the West Virginia Department of Natural Resources, and the Kentucky Department for Environmental Protection are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Projects is available from the Commission's Office of External Affairs at (866) 208-FERC or on the FERC Web site (www.ferc.gov). Using the “eLibrary” link, select “General Search” from the eLibrary menu, enter the selected date range and “Docket Number” for the project you wish to access excluding the last three digits (i.e., CP15-514, CP15-539), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: February 10, 2016.
Nathaniel J. Davis, Sr.,
Deputy Secretary.

[FR Doc. 2016-03324 Filed 2-17-16; 8:45 am]

BILLING CODE 6717-01-P